INTERNATIONAL TRADE COMMISSION

[Investigation No. 332-345]

Recent Trends in U.S. Services Trade, 2021 Annual Report

AGENCY: United States International Trade Commission.

ACTION: Schedule for 2021 report and opportunity to submit information.

SUMMARY: The Commission has prepared and published annual reports in this series under Investigation No. 332-345, Recent Trends in U.S. Services Trade, since 1996. The 2021 report, which the Commission plans to publish in April 2021, will provide aggregate data on cross-border trade in services for the period ending in 2019, and transactions by affiliates based outside the country of their parent firm for the period ending in 2018. The report's analysis will focus on professional services (including management consulting services, research and development services, education services, healthcare services, architecture and engineering services, and legal services). The Commission is inviting interested members of the public to furnish information and views in connection with the 2021 report.

DATES: September 28, 2020: Deadline for filing written submissions.

April 7, 2021: Anticipated date for online publication of the report.

ADDRESSES: All Commission offices, including the Commission's hearing rooms, are located in the United States International Trade Commission Building, 500 E St. SW, Washington, DC. All written submissions should be addressed to the Secretary, United States International Trade Commission, 500 E St. SW, Washington, DC 20436. The public record for this investigation may be viewed on the Commission's electronic docket information system (EDIS) at https://edis.usitc.gov/.

FOR FURTHER INFORMATION CONTACT: Information specific to this investigation may be obtained from Junie Joseph, Project Leader, Office of Industries, Services Division (202-205-3363, junie.joseph@usitc.gov), Sarah Oliver, Deputy Project Leader, Office of Industries, Services Division (202-205-3288, sarah.oliver@usitc.gov), or Services Division Chief Martha Lawless (202-205-3497, martha.lawless@usitc.gov). For information on the legal aspects of this investigation, contact William Gearhart of the Commission's Office of the General Counsel (202-205-3091; william.gearhart@usitc.gov). The media should contact Margaret O'Laughlin, Office of External Relations (202-205-1819; margaret.olaughlin@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION:

Background: The 2021 annual services trade report will provide aggregate data on cross-border trade in services for 2019 and affiliate transactions in services for 2018, and more specific data and information on trade in professional services (management consulting, research and development, education, healthcare, architecture and engineering, and legal services). Under Commission Investigation No. 332-345, the Commission publishes two annual reports, one on services trade (Recent Trends in U.S. Services Trade), and a second on merchandise trade (Shifts in U.S. Merchandise Trade). The Commission's 2020 Recent Trends in U.S. Services Trade report is now available online at https://www.usitc.gov.

The initial notice of institution of this investigation was published in the Federal Register on September 8, 1993 (58 FR 47287) and provided for what is now the report on merchandise trade. The Commission expanded the scope of the investigation to cover services trade in a separate report, which it announced in a notice published in the Federal Register on December 28, 1994 (59 FR 66974). The separate report on services trade has been published annually since 1996, except in 2005. As in past years, the report will summarize trade in services in the aggregate and provide analyses of trends and developments in selected services industries during the latest period for which data are published by the U.S. Department of Commerce, Bureau of Economic Analysis.

Written Submissions: Interested parties are invited to file written submissions and other information concerning the matters to be addressed by the Commission in its 2021 report. For the 2021 report, the Commission is particularly interested in receiving information relating to trade in professional services (management consulting, research and development, education, healthcare, architecture and engineering, and legal services services). Submissions should be addressed to the Secretary. To be assured of consideration by the Commission, written submissions related to the Commission's report should be submitted at the earliest practical date and should be received not later than 5:15 p.m., September 28, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential business information. Any submissions that contain confidential business information (CBI) must also conform with the requirements in section 201.6 of the Commission's Rules of Practice and Procedure (19 CFR 201.6). Section 201.6 of the rules requires that the cover of the document and the individual pages be clearly marked as to whether they are confidential or non-confidential, and that the confidential business information be clearly identified by means of brackets. All written submissions, except for confidential business information, will be made available for inspection by interested parties.

The Commission intends to prepare only a public report in this investigation. The report that the Commission makes available to the public will not contain confidential business information. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel solely for cybersecurity purposes. The Commission will not otherwise disclose any confidential business information in a manner that would reveal the operations of the firm supplying the information.

Summaries of Written Submissions: The Commission intends to publish summaries of the positions of interested persons in this report. If you wish to have a summary of your position included in an appendix of the report, please include a summary with your written submission and mark the summary as submitted for that purpose. The summary may not exceed 500 words, should be in MSWord format or a format that can be easily converted to MSWord, and should not include any confidential business information. The summary will be published as provided if it meets these requirements and is germane to the subject matter of the investigation. In the report the Commission will identify the name of the organization furnishing the summary and will include a link to the Commission's Electronic Document Information System (EDIS) where the full written submission can be found.

By order of the Commission.
Issued: August 21, 2020.
Lisa Barton,
Secretary to the Commission.

[FR Doc. 2020-18776 Filed 8-25-20; 8:45 am]

BILLING CODE 7020-02-P